Title 3—

The President

Proclamation 8272 of June 30, 2008

To Modify Duty-Free Treatment Under the Generalized System of Preferences, Take Certain Actions Under the African Growth and Opportunity Act, and for Other Purposes

By the President of the United States of America

A Proclamation

1. Pursuant to section 503(c)(2)(A) of the Trade Act of 1974, as amended (the “1974 Act”) (19 U.S.C. 2463(c)(2)(A)), beneficiary developing countries, except those designated as least-developed beneficiary developing countries or beneficiary sub-Saharan African countries as provided in section 503(c)(2)(D) of the 1974 Act (19 U.S.C. 2463(c)(2)(D)), are subject to competitive need limitations on the preferential treatment afforded under the Generalized System of Preferences (GSP) to eligible articles.

2. Pursuant to sections 501 and 503(a)(1)(A) of the 1974 Act (19 U.S.C. 2461 and 2463(a)(1)(A)), the President may designate articles as eligible for preferential tariff treatment under the GSP.

3. Section 503(c)(2)(F)(i) of the 1974 Act (19 U.S.C. 2463(c)(2)(F)(i)) provides that the President may disregard the competitive need limitation provided in section 503(c)(2)(A) (i)(II) of the 1974 Act (19 U.S.C. 2463(c)(2)(A)(i)(II)) with respect to any eligible article from any beneficiary developing country if the aggregate appraised value of the imports of such article into the United States during the preceding calendar year does not exceed an amount set forth in section 503(c)(2)(F)(ii) of the 1974 Act (19 U.S.C. 2463(c)(2)(F)(ii)).

4. Pursuant to section 503(d)(1) of the 1974 Act (19 U.S.C. 2463(d)(1)), the President may waive the application of the competitive need limitations in section 503(c)(2)(A) of the 1974 Act with respect to any eligible article from any beneficiary developing country if certain conditions are met.

5. Pursuant to section 503(d)(5) of the 1974 Act (19 U.S.C. 2463(d)(5)), any waiver granted under section 503(d) shall remain in effect until the President determines that such waiver is no longer warranted due to changed circumstances.

6. Section 502(e) of the 1974 Act (19 U.S.C. 2462(e)) provides that the President shall terminate the designation of a country as a beneficiary developing country for purposes of the GSP if the President determines that such country has become a “high income” country as defined by the official statistics of the International Bank for Reconstruction and Development. Termination is effective on January 1 of the second year following the year in which such determination is made.

7. Pursuant to section 503(c)(2)(A) of the 1974 Act, I have determined that in 2007 certain beneficiary developing countries have exported certain eligible articles in quantities exceeding the applicable competitive need limitations, and I therefore terminate the duty-free treatment for such articles from such beneficiary developing countries.

8. Pursuant to section 503(c)(2)(F) of the 1974 Act, I have determined that the competitive need limitation provided in section 503(c)(2)(A)(i)(II) of the 1974 Act should be disregarded with respect to certain eligible articles from certain beneficiary developing countries.

9. Pursuant to section 503(d)(1) of the 1974 Act, I have received the advice of the United States International Trade Commission on whether any industries in the United States are likely to be adversely affected by such waivers, and I have determined, based on that advice and on the considerations described in sections 501 and 502(c) of the 1974 Act (19 U.S.C. 2462(c)), and after giving great weight to the considerations in section 503(d)(2) of the 1974 Act (19 U.S.C. 2463(d)(2)), that such waivers are in the national economic interest of the United States. Accordingly, I have determined that the competitive need limitations of section 503(c)(2)(A) of the 1974 Act should be waived with respect to certain eligible articles from certain beneficiary developing countries.

10. Pursuant to section 503(d)(5) of the 1974 Act, I have determined that certain previously granted waivers of the competitive need limitations of section 503(c)(2)(A) of the 1974 Act are no longer warranted due to changed circumstances.

11. Pursuant to section 502(e) of the 1974 Act, I have determined that Trinidad and Tobago has become a “high income” country, and I am terminating the designation of that country as a beneficiary developing country for purposes of the GSP, effective January 1, 2010.

12. Section 502(a)(1) of the 1974 Act (19 U.S.C. 2462(a)(1)) authorizes the President to designate countries as beneficiary developing countries for purposes of the GSP. In Proclamation 7912 of June 29, 2005, I designated Serbia and Montenegro as a beneficiary developing country for purposes of the GSP. On June 3, 2006, upon Montenegro's declaration of independence from Serbia and Montenegro, the country separated into two independent republics: the Republic of Serbia and the Republic of Montenegro. Pursuant to section 502 of the 1974 Act, and taking into account the factors set forth in section 502(c) of that Act, I have determined that, in light of the separation of Serbia and Montenegro into two countries, the Republic of Serbia and the Republic of Montenegro should each be designated as a beneficiary developing country for purposes of the GSP.

13. Section 506A(a)(1) of the 1974 Act (19 U.S.C. 2466a(a)(1)), as added by section 111(a) of the African Growth and Opportunity Act (title I of Public Law 106-200, 114 Stat. 254) (AGOA), authorizes the President to designate a country listed in section 107 of the AGOA (19 U.S.C. 3706) as a beneficiary sub-Saharan African country if the President determines that the country meets the eligibility requirements set forth in section 104 of the AGOA (19 U.S.C. 3703) and the eligibility criteria set forth in section 502 of the 1974 Act (19 U.S.C. 2462).

14. Section 104 of the AGOA authorizes the President to designate a country listed in section 107 of the AGOA as an eligible sub-Saharan African country if the President determines that the country meets certain eligibility requirements.

15. Section 112(c) of the AGOA (19 U.S.C. 3721(c)), as added by section 6002(a) of the Africa Investment Incentive Act of 2006 (division D of title VI of Public Law 109-432, 120 Stat. 2922), provides special rules for certain apparel articles imported from lesser developed beneficiary sub-Saharan African countries.

16. Pursuant to section 104 of the AGOA and section 506A(a)(1) of the 1974 Act, I have determined that the Union of the Comoros (Comoros) meets the eligibility requirements set forth or referenced therein, and I have decided to designate Comoros as an eligible sub-Saharan African country and beneficiary sub-Saharan African country.

17. I have further determined that Comoros satisfies the criterion for treatment as a lesser developed beneficiary sub- Saharan African country under section 112(c)(5)(D)(i) of the AGOA.

18. On August 5, 2004, the United States entered into the Dominican Republic-Central America-United States Free Trade Agreement (the “Agreement”) with Costa Rica, the Dominican Republic, El Salvador, Guatemala, Honduras, and Nicaragua. The Congress approved the Agreement in section 101(a) of the Dominican Republic-Central America-United States Free Trade Agreement Implementation Act (the “CAFTA-DR Act”) (19 U.S.C. 4011).

19. Pursuant to section 403(a) of the CAFTA-DR Act (19 U.S.C. 4111(a)), the President is to report biennially to the Congress on the matters described in that section and, as the President deems appropriate, in section 403(b)(2) of the CAFTA-DR Act (19 U.S.C. 4111(b)(2)).

20. Pursuant to section 403(a)(4) of the CAFTA-DR Act (19 U.S.C. 4111(a)(4)), the President is to establish a mechanism to solicit public comments on the matters described in section 403(a)(3)(D) of the CAFTA-DR Act (19 U.S.C. 4111(a)(3)(D)).

21. In Presidential Proclamation 8213 of December 20, 2007, I modified the Harmonized Tariff Schedule of the United States (HTS) pursuant to section 1634 of the Pension Protection Act of 2006 (Public Law 109-280, 120 Stat. 780) to carry out the understandings described in that section. Technical rectifications to the HTS are required to provide the intended tariff treatment.

22. In Presidential Proclamation 8240 of April 17, 2008, pursuant to section 503(c)(2)(A) of the 1974 Act, I modified the HTS to withdraw duty-free treatment for certain articles from Jamaica. A technical rectification to the HTS is required to provide the intended tariff treatment.

23. Section 604 of the 1974 Act (19 U.S.C. 2483) authorizes the President to embody in the HTS the substance of the relevant provisions of that Act, and of other Acts affecting import treatment, and actions thereunder, including the removal, modification, continuance, or imposition of any rate of duty or other import restriction.

NOW, THEREFORE, I, GEORGE W. BUSH, President of the United States of America, acting under the authority vested in me by the Constitution and the laws of the United States, including but not limited to title V and section 604 of the 1974 Act, section 104 of the AGOA, section 301 of title 3, United States Code (3 U.S.C. 301), and section 403 of the CAFTA-DR Act, do proclaim that:

(1) In order to provide that one or more countries should no longer be treated as beneficiary developing countries with respect to one or more eligible articles for purposes of the GSP, general note 4(d) to the HTS is modified as set forth in section A of Annex I to this proclamation.

(2) In order to provide that one or more countries should not be treated as beneficiary developing countries with respect to certain eligible articles for purposes of the GSP, the Rates of Duty 1-Special subcolumn for such HTS subheadings is modified as set forth in section B of Annex I to this proclamation.

(3) In order to designate certain articles as eligible articles for purposes of the GSP, the Rates of Duty 1-Special subcolumn for such HTS subheadings is modified as set forth in section C of Annex I to this proclamation.

(4) The competitive need limitation provided in section 503(c)(2)(A)(i)(II) of the 1974 Act is disregarded with respect to the eligible articles in the HTS subheadings and to the beneficiary developing countries listed in Annex II to this proclamation.

(5) A waiver of the application of section 503(c)(2)(A) of the 1974 Act shall apply to the eligible articles in the HTS subheadings and to the beneficiary developing countries set forth in Annex III to this proclamation.

(6) The waivers of the application of section 503(c)(2)(A) of the 1974 Act to the articles in the HTS subheadings and to the beneficiary developing countries listed in Annex IV to this proclamation are revoked.

(7) The designation of Trinidad and Tobago as a beneficiary developing country for purposes of the GSP is terminated, effective on January 1, 2010.

(8) In order to reflect this termination in the HTS, general note 4(a) to the HTS is modified by deleting “Trinidad and Tobago” from the list of independent countries, effective with respect to articles entered, or withdrawn from warehouse for consumption, on or after January 1, 2010.

(9) The Republic of Serbia is designated as a beneficiary developing country for purposes of the GSP.

(10) In order to reflect this designation in the HTS, general note 4(a) is modified by deleting “Serbia and Montenegro” and adding in alphabetical order “Serbia” to the list of independent countries, effective with respect to articles entered, or withdrawn from warehouse for consumption, on or after the thirtieth day after the date of this proclamation.

(11) The Republic of Montenegro is designated as a beneficiary developing country for purposes of the GSP.

(12) In order to reflect this designation in the HTS, general note 4(a) is modified by adding in alphabetical order “Montenegro” to the list of independent countries, effective with respect to articles entered, or withdrawn from warehouse for consumption, on or after the thirtieth day after the date of this proclamation.

(13) Comoros is designated as an eligible sub-Saharan African country and as a beneficiary sub-Saharan African country for purposes of the AGOA.

(14) In order to reflect this designation in the HTS, general note 16(a) to the HTS is modified by inserting in alphabetical sequence in the list of beneficiary sub-Saharan African countries “Union of the Comoros,” effective with respect to articles entered, or withdrawn from warehouse for consumption, on or after July 1, 2008.

(15) For purposes of section 112(c) of the AGOA, Comoros is a lesser developed beneficiary sub-Saharan African country.

(16) The modifications to the HTS set forth in Annexes I and IV to this proclamation shall be effective with respect to articles entered, or withdrawn from warehouse for consumption, on or after the dates set forth in the respective annex.

(17) The Secretary of Labor, in consultation with the United States Trade Representative, shall carry out the reporting function under sections 403(a) and 403(b)(2) of the CAFTA-DR Act.

(18) The Secretary of Labor, in consultation with the United States Trade Representative, shall solicit public comments under section 403(a)(4) of the CAFTA-DR Act.

(19) In order to provide the intended tariff treatment to certain articles of Jamaica, the HTS is modified as set forth in Annex V to this proclamation.

(20) The modifications to the HTS set forth in Annex V to this proclamation shall be effective with respect to articles entered, or withdrawn from warehouse for consumption, on or after the date set forth in Annex V.

(21) In order to provide the intended tariff treatment to goods subject to the understandings carried out in Proclamation 8213, the HTS is modified as set forth in Annex VI to this proclamation.

(22) The modifications to the HTS set forth in Annex VI to this proclamation shall enter into effect on the date that the modifications to the HTS set out in section C or D of the Annex to Proclamation 8213, as appropriate, enter into force, and shall be effective with respect to goods entered, or withdrawn from warehouse for consumption, on or after that date.

(23) Any provisions of previous proclamations and Executive Orders that are inconsistent with the actions taken in this proclamation are superseded to the extent of such inconsistency.

IN WITNESS WHEREOF, I have hereunto set my hand this thirtieth day of June in the year of our Lord two thousand eight, and of the Independence of the United States of America the two hundred and thirty-second.

Billing code 3195-W8-P

[FR Doc. 08-1413

Filed 7-2-08; 10:01 am]

Billing code 7020-02-C